FEDERAL ELECTION COMMISSION

Sunshine Act Meetings

FEDERAL REGISTER CITATION OF PREVIOUS ANNOUNCEMENT: 83 FR 47616.

PREVIOUSLY ANNOUNCED TIME AND DATE OF THE MEETING: Tuesday, September 25, 2018 at 10:00 a.m.

CHANGES IN THE MEETING: This meeting will also discuss:

Investigatory records compiled for law enforcement purposes and production would disclose investigative techniques.

Information the premature disclosure of which would be likely to have a considerable adverse effect on the implementation of a proposed Commission action.

* * * * *

CONTACT PERSON FOR MORE INFORMATION: Judith Ingram, Press Officer, Telephone: (202) 694-1220.

Laura E. Sinram,
Deputy Secretary of the Commission.

[FR Doc. 2018-20791 Filed 9-20-18; 11:15 am]

BILLING CODE 6715-01-P